SECURITIES AND EXCHANGE COMMISSION

[SEC File No. 270-521, OMB Control No. 3235-0579]

Submission for OMB Review; Comment Request; Extension: Regulation BTR; Correction

AGENCY: Securities and Exchange Commission. ACTION: Notice; correction.

SUMMARY: The Securities and Exchange Commission published a notice document in the Federal Register on December 27, 2024, concerning a Submission for OMB Review; Comment Request; Extension: Regulation BTR. The document contained a typographical error.

FOR FURTHER INFORMATION CONTACT: Naomi P. Lewis, Securities and Exchange Commission, 100 F Street NE, Washington, DC 20549, (202) 551-5400.

SUPPLEMENTARY INFORMATION:

Correction

In the Federal Register of December 27, 2024, in FR Doc. 2024-30768, at 89 FR 105665, in the first column, in the last paragraph, on the 51st and 52nd lines, the reference to “https://www.reginfo.gov/public/do/PRAViewICR?ref_nbr=202412-3235-022” should be replaced with “https://www.reginfo.gov/public/do/PRAViewICR?ref_nbr=202412-3235-023”.

Dated: December 30, 2024.
Stephanie J. Fouse,
Assistant Secretary.

[FR Doc. 2024-31577 Filed 1-2-25; 8:45 am]

BILLING CODE 8011-01-P